DEPARTMENT OF THE INTERIOR

Fish and Wildlife Service

Receipt of Applications for Endangered Species Permits

AGENCY: Fish and Wildlife Service, Interior.

ACTION: Notice of receipt of applications for permits.

SUMMARY: The public is invited to comment on the following applications to conduct certain activities with endangered species. We provide this notice pursuant to section 10(c) of the Endangered Species Act of 1973, as amended (16 U.S.C. 1531 et seq.).

DATES: We must receive written data or comments on these applications at the address given below, by January 3, 2005.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist).

FOR FURTHER INFORMATION CONTACT: Victoria Davis, telephone 404/679-4176; facsimile 404/679-7081.

SUPPLEMENTARY INFORMATION: The public is invited to comment on the following applications for permits to conduct certain activities with endangered species. If you wish to comment, you may submit comments by any one of the following methods. You may mail comments to the Service's Regional Office (see ADDRESSES section) or via electronic mail (e-mail) to victoria_davis@fws.gov. Please submit electronic comments as an ASCII file avoiding the use of special characters and any form of encryption. Please also include your name and return address in your e-mail message. If you do not receive a confirmation from the Service that we have received your e-mail message, contact us directly at the telephone number listed above (see FOR FURTHER INFORMATION CONTACT section). Finally, you may hand deliver comments to the Service office listed above (see ADDRESSES section).

Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

Applicant: Anthony R. Dodd, GeoSyntec Consultants, Inc., Atlanta, Georgia, TE095972-0

The applicant requests authorization to take (capture, identify, and release) the following species: Shortnose sturgeon (Acipenser brevirostrum), blue shiner (Cyprinella caerulea), Etowah darter (Etheostoma etowahae), Cherokee darter (Etheostoma scotti), amber darter (Percina antesella), goldline darter (Percina aurolineata), Conasauga logperch (Percina jenkensi), snail darter (Percina tanasi), fat threeridge (Amblema neislerii), upland combshell (Epioblasma metastriata), southern acornshell (Epioblasma othcaloogensis), southern combshell (Epioblasma penita), shinyrayed pocketbook (Lampsilis subangulata), gulf moccasinshell (Medionidus penicillatus), Coosa moccasinshell (Medionidus parvulus), southern clubshell (Pleurobema decisum), southern pigtoe (Pleurobema georgianum), ovate clubshell (Pleurobema perovatum), oval pigtoe (Pleurobema pyriforme), purple bankclimber (Elliptoideus sloatianus), fine-lined pocketbook (Lampsilis altilis), orangenacre mucket (Lampsilis perovalis), Alabama moccasinshell (Medionidus acutissimus), and triangular kidneyshell (Ptychobranchus greeni). The proposed activities would take place while conducting presence/absence surveys throughout the state of Georgia.

Applicant: Jennifer A. Wallens, Stantec Consulting Services Inc. or Ecosystem Consultants Inc., Nolensville, Tennessee, TE095978-0

The applicant requests authorization to take (capture, identify, release) the Nashville Crayfish (Orconectes shoupi), bald eagle (Haliaeetus leucocephalus), eastern (=cougar) puma (Puma (=Felis) concolor couguar), Carolina northern flying squirrel (Glaucomys sabrinus coloratus), least tern (Sterna antillarum), bluetail mole skink (Eumeces egregius lividus), sand skink (Neoseps reynoldsi), eastern indigo snake (Drymarchon corais couperi), gopher tortoise (Gopherus polyphemus), Alabama red-belly turtle (Pseudemys alabamensis), bog turtle (Clemmys muhlenbergii), flattened musk turtle (Sternotherus depressus), ringed map turtle (Graptemys oculifera), yellow-blotched map turtle (Graptemys flavimaculata), Audubon's crested caracara (Polyborus plancus audubonii), Mississippi sandhill crane (Grus canadensis pulla), whooping crane (Grus americana), Florida scrub jay (Aphelocoma coerulenscens), Everglade snail kite (Rostrhamus sociabilis plumbeus), brown pelican (Pelecanus occidentalis), Cape Sable seaside sparrow (Ammodramus maritimus mirabilis), Florida grasshopper sparrow (Ammodramus savannarum floridanus), wood stork (Mycteria americana), Bachman's (=wood) warbler (Vermivora bachmanii), and red-cockaded woodpecker (Picoides borealis) while conducting presence/absence surveys and relocation activities for the Nashville crayfish and the gopher tortoise. The proposed activities would occur throughout the species' ranges in Tennessee, Florida, Georgia, Alabama, Kentucky, North Carolina, South Carolina, Mississippi, and Illinois.

Applicant: Michael T. Mengak, Warnell School of Forest Resources, University of Georgia, Athens, Georgia, TE095980-0

The applicant requests authorization to take (capture, radio-tag, track, and release) Key Largo woodrats (Neotoma floridana smalli). Fifteen (15) females and fifteen (15) males may be radio-tagged. The proposed activities would take place while conducting population estimations at Crocodile Lakes National Wildlife Refuge and Key Largo Hammocks Botanical Preserve, Monroe County, Florida.

Applicant: Reed F. Noss, University of Central Florida, Department of Biology, Orlando, Florida, TE096068

The applicant requests authorization to take (capture, band, radio-tag, monitor nest, release) Florida grasshopper sparrows (Ammodramus savannarum floridanus) while conducting research and maintaining a monitoring program. The proposed activities would occur on the Kissimmee Prairie State Preserve, Florida.

Applicant: CCR Environmental, Inc., Charles V. Rabolli, Atlanta, Georgia 30340

The applicant requests authorization to harass the red-cockaded woodpecker (Picoides borealis) while conducting presence/absence surveys, constructing artificial nest cavities, and monitoring activities in clusters. The proposed activities would take place throughout the species' range in Alabama, Arkansas, Florida, Georgia, Louisiana, Mississippi, North Carolina, Oklahoma, South Carolina, Texas, and Virginia.

Applicant: Hopi Elisabeth Hoekstra, University of California, San Diego, La Jolla, California, TE095962-0

The applicant requests authorization to take (capture, measure, collect genetic samples, release) up to 25 of each of the following species: Alabama beach mouse (Peromyscus polionotus ammobates), Perdido Key beach mouse (Peromyscus polionotus trissyllepsis), Choctawhatchee beach mouse (Peromyscus polionotus allophyrs), St. Andrews beach mouse (Peromyscus polionotus peninsularis), Anastasia Island beach mouse (Peromyscus polionotus phasma), and the Southeastern beach mouse (Peromyscus polionotus niveiventris). Take would occur while examining the evolution of morphological variation, with a focus on pigmentation, in natural populations of Peromyscus polionotus. The proposed activities would occur in Baldwin County, Alabama; Escambia, Santa Rosa, Okaloosa, Walton, Bay, Gulf, St. John, and Brevard Counties, Florida.

Dated: November 12, 2004.
Cynthia K. Dohner,
Acting Regional Director.

[FR Doc. 04-26638 Filed 12-2-04; 8:45 am]

BILLING CODE 4310-55-P